DEPARTMENT OF TRANSPORTATION

Pipeline and Hazardous Materials Safety Administration

[Docket No. PHMSA-2019-0091]

Pipeline Safety: Liquefied Natural Gas Facilities Public Meeting 2025

AGENCY: Pipeline and Hazardous Materials Safety Administration (PHMSA), Department of Transportation (DOT).

ACTION: Notice of public meeting.

SUMMARY: This notice announces a virtual public meeting on liquefied natural gas (LNG) facilities titled “Liquefied Natural Gas Facilities Public Meeting 2025.” The purpose of the public meeting is to inform a forthcoming proposed rulemaking to update LNG facility safety regulations at 49 Code of Federal Regulations (CFR) part 193.

DATES: The LNG facilities public meeting will occur on October 22, 2025. Persons who would like to attend the virtual public meeting must register on the meeting web page no later than October 15, 2025. Individuals requiring accommodations, such as sign language interpretation or other aids, are asked to notify PHMSA no later than October 15, 2025.

ADDRESSES: The meeting will be held virtually; members of the public will not have the opportunity to attend the meeting in-person. The meeting agenda and instructions on how to attend virtually will be published once they are finalized on the public meeting web page at: https://primis-meetings.phmsa.dot.gov/.

Presentations: Presentations will be available on the public meeting web page and on the E-gov website, https://regulations.gov under docket number PHMSA-2019-0091 no later than 30 days following the meeting. PHMSA will endeavor to make available on the meeting web page in advance of the meeting date the meeting agenda and some or all presentations that will made during the meeting.

Submitting Comments or Questions: PHMSA notes that the purpose of this meeting is to provide the agency an opportunity to obtain stakeholder clarification or supplementation of comments previously received on PHMSA's Advance Notice of Proposed Rulemaking soliciting stakeholder feedback on potential amendments to safety regulations governing LNG facilities at 49 CFR part 193.¹ PHMSA consequently discourages stakeholders from submitting comments repeating those previously submitted on the ANPRM. Stakeholders may submit for PHMSA's consideration comments or questions, identified by Docket No. PHMSA-2019-0091, by any of the following methods:

¹ PHMSA, “Advance Notice of Proposed Rulemaking,” 85 FR 18949 (May 5, 2025) (ANPRM). PHMSA subsequently issued a “Notice of Intent to Prepare an Environmental Impact Statement” in connection with the same rulemaking proceeding. 90 FR 24088 (June 6, 2025) (NOI). The public meeting announced in this notice is not intended to focus on stakeholder comments on that NOI.

• E-Gov Web: http://www.regulations.gov. This site allows the public to enter comments on any Federal Register notice issued by any agency. Follow the online instructions for submitting comments.

• Mail: Docket Management System: U.S. Department of Transportation, 1200 New Jersey Avenue SE, West Building Ground Floor, Room W12-140, Washington, DC 20590-0001.

• Hand Delivery: DOT Docket Management System: West Building Ground Floor, Room W12-140, 1200 New Jersey Avenue SE, Washington, DC, between 9:00 a.m. and 5:00 p.m. ET, Monday through Friday, except Federal holidays.

• Fax: 202-493-2251.

• Instructions: Identify the Docket No. PHMSA-2019-0091, at the beginning of your comments. If you submit your comments by mail, submit two copies. If you wish to receive confirmation that PHMSA received your comments, include a self-addressed stamped postcard. Internet users may submit comments at http://www.regulations.gov.

• Note: All comments received are posted without edits to http://www.regulations.gov, including any personal information provided. Please see the Privacy Act heading below.

• Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask PHMSA to provide confidential treatment to information you give to the agency by taking the following steps: (1) mark each page of the original document submission containing CBI as “Confidential;” (2) send PHMSA a copy of the original document with the CBI deleted along with the original, unaltered document; and (3) explain why the information you are submitting is CBI. Unless you are notified otherwise, PHMSA will treat such marked submissions as confidential under the Freedom of Information Act and they will not be placed in the public docket of this notice. Submissions containing CBI should be sent to Brianna Wilson, Office of Pipeline Safety (PHP-30), Pipeline and Hazardous Materials Safety Administration (PHMSA), 2nd Floor, 1200 New Jersey Avenue SE, Washington, DC 20590-0001, or by email at brianna.wilson@dot.gov. Any materials PHMSA receives that is not specifically designated as CBI will be placed in the public docket.

• Docket: For access to the docket to read background documents or comments received, go to http://www.regulations.gov. Follow the online instructions for accessing the dockets. Alternatively, you may review the documents in person at the street address listed above.

FOR FURTHER INFORMATION CONTACT: Brianna Wilson, Transportation Specialist, by phone at (771) 215-0969, or by email at brianna.wilson@dot.gov.

SUPPLEMENTARY INFORMATION: PHMSA will hold a public meeting to obtain clarification and supplementation of comments responding to an ANPRM soliciting stakeholder feedback on potential amendments to safety regulations governing LNG facilities at 49 CFR part 193. The public meeting will address topics set forth in PHMSA's questions in the ANPRM and stakeholder responses thereto. The public meeting will consist of brief presentations and panel discussions by PHMSA, other Federal or State industry regulators, technical and economic/market subject matter experts with respect to LNG facilities, industry stakeholders, and other persons as PHMSA determines would be helpful to inform its development of a forthcoming notice of proposed rulemaking to update its 49 CFR part 193 regulations. Following each presentation or panel discussion, PHMSA may pose questions to speakers and panelists; as time permits, PHMSA may also provide a brief opportunity for members of the public to pose questions to speakers and panelists.

This meeting is not intended to replace a future meeting of the Gas Pipeline Advisory Committee (GPAC) meeting following the publication of a notice of proposed rulemaking, or any other meeting or consultation required by law.

Issued in Washington, DC, on September 29, 2025, under authority delegated in 49 CFR 1.97.

Linda Daugherty,
Acting Associate Administrator for Pipeline Safety.

[FR Doc. 2025-19286 Filed 10-1-25; 8:45 am]

BILLING CODE 4910-60-P